DEPARTMENT OF THE INTERIOR

Fish and Wildlife Service

[FWS-HQ-SATD-2014-N174; FXSC14300900000-134-FF09S00000]

National Fish, Wildlife, and Plants Climate Adaptation Strategy; Teleconference of the Joint Implementation Working Group

AGENCY: Fish and Wildlife Service, Interior.

ACTION: Notice of teleconference.

SUMMARY: We, the U.S. Fish and Wildlife Service (Service), announce a public teleconference of the Joint Implementation Working Group (Working Group) for the National Fish, Wildlife, and Plants Climate Adaptation Strategy (Strategy). The purpose of the Strategy is to inspire and enable natural resource professionals and other decision makers to take action to conserve the nation's fish, wildlife, plants, and ecosystem functions, as well as the human uses and values these natural systems provide, in a changing climate. At this meeting, the Working Group will review the first Strategy Implementation Progress Report, discuss future approaches to implementation, hear comments from stakeholders, and make plans for the Fall-2014 in-person meeting.

With this notice, we also initiate the Working Group's recently approved Stakeholder Engagement Plan, which commits the Working Group to open meetings going forward. This will be the only announcement of meetings made in the Federal Register. All future meetings (including logistical information) will be made only via the Strategy Web site (www.wildlifeadaptationstrategy.gov).

DATES: The Working Group will meet via teleconference on September 15, 2014, from 1 p.m. to 3 p.m. If you wish to submit written information questions for the Working Group to consider during the teleconference, please submit them to Mark Shaffer (see FOR FURTHER INFORMATION CONTACT) by one of the methods under “Submitting Written Information or Questions,” no later than September 11, 2014.

ADDRESSES: Because this is a teleconference, there is no meeting venue. Participants should call the toll-free number 877-913-8254; when prompted, enter participant passcode 5547760. Participants may also view materials presented by or to the Working Group by joining the meetings via Instant Net Conference. Participants interested in this feature should go to http://www.mymeetings.com/nc/join.php?sigKey=mymeetings&i=747841297&p=5547760&t=c. If requested, enter the participant passcode (5547760)

FOR FURTHER INFORMATION CONTACT: Mark Shaffer, Office of the Science Advisor, at 703-358-2603 (telephone), or wildlifeadaptationstrategy@fws.gov (email), or via the Strategy Web site at http://www.wildlifeadaptationstrategy.gov/contact-us.php. If you use a telecommunications device for the deaf, please call the Federal Information Relay Service (FIRS) at 800-877-8339.

SUPPLEMENTARY INFORMATION: We, the U.S. Fish and Wildlife Service (Service), announce a public teleconference of the Joint Implementation Working Group (Working Group) for the National Fish, Wildlife, and Plants Climate Adaptation Strategy (Strategy). The Working Group is made up of the Service, the National Oceanic and Atmospheric Administration (NOAA, Department of Commerce), other Federal natural resource agencies, and State and tribal wildlife partners. The purpose of the Strategy is to inspire and enable natural resource professionals and other decision makers to take action to conserve the nation's fish, wildlife, plants, and ecosystem functions, as well as the human uses and values these natural systems provide, in a changing climate. At this meeting, the working Group will review the first Strategy Implementation Progress Report, discuss future approaches to implementation, hear comments from stakeholders, and make plans for the Fall-2014 in-person meeting.

Background

The adverse impacts of climate change transcend political and administrative boundaries. No single entity or level of government can safeguard wildlife and society against the effects of climate change. In cooperation with our co-leaders—NOAA, other Federal natural resource agencies, State wildlife agencies, and tribal partners—we announced publication of the strategy on April 1, 2013 (78 FR 19514). The Strategy presents a unified approach—reflecting shared principles and science-based practices—for reducing the negative impacts of climate change on fish, wildlife, plants, our natural resource heritage, and the communities and economies that depend on them. The Strategy provides a basis for sensible actions that can be taken now, in spite of the uncertainties that exist about the precise impacts of climate change. It also provides guidance about what further actions are most likely to promote natural resource adaptation to climate change, and describes mechanisms that will foster collaboration for effective action among all levels of government, conservation organizations, and private landowners.

Please visit the Strategy Web site at http://www.wildlifeadaptationstrategy.gov to download a copy of the Strategy or Strategy Highlights brochure, or to obtain additional background on the development of the Strategy.

Please note that future meetings of the Working Group will be announced only on the Web site.

Teleconference Agenda

• Co-chair remarks and updates.

• Review of Agenda.

• Preview of NFWPCAS Implementation Progress Report and plans for release.

• Discussion of future approach to implementation.

• Report from Stakeholders' Subgroup.

• Stakeholder comments.

• Plans for the Fall In-person meeting.

• Co-chairs' closing comments.

Submitting Written Information or Questions

Interested members of the public may submit relevant information or questions for the Working Group to consider during the meeting. Written statements must be supplied to Mark Shaffer in one of the following formats: One hard copy with original signature or one electronic copy with digital signature copy via email (acceptable file formats are Adobe Acrobat PDF, MS Word, PowerPoint, or rich text file).

Minutes

Summary minutes of the teleconference will be available for public inspection within 90 days after the meeting, and will be posted on the Working Group Web site at www.wildlifeadaptationstrategy.gov.

Authority

Conference Report for the Interior, Environment and Related Agencies Appropriations Act, 2010.

Dated: August 12, 2014.
Seth Mott,
Acting Science Advisor to the Director, U.S. Fish and Wildlife Service.

[FR Doc. 2014-19761 Filed 8-19-14; 8:45 am]

BILLING CODE 4310-55-P